DEPARTMENT OF THE INTERIOR

Bureau of Land Management

[LLIDB00100.20XL.1109AF.L17110000. PH0000.LXSS024D0000.4500140489]

Notice of Public Meeting, Boise District Resource Advisory Council, Idaho

AGENCY: Bureau of Land Management, Interior.

ACTION: Notice of public meeting.

SUMMARY: In accordance with the Federal Land Policy and Management Act (FLPMA), the Federal Advisory Committee Act of 1972 (FACA), and the Federal Lands Recreation Enhancement Act of 2004 (FLREA), the U.S. Department of the Interior, Bureau of Land Management (BLM) Boise District Resource Advisory Council (RAC) will meet as indicated below.

DATES: The Boise District RAC will meet Thursday, January 9, 2020. The meeting will begin at 9:00 a.m. and end no later than 5:00 p.m. The public comment period will take place from noon until 12:30 p.m.

ADDRESSES: The Boise District RAC will meet at the BLM Boise District Office, 3948 Development Avenue, Boise, ID 83705.

FOR FURTHER INFORMATION CONTACT: Lara Douglas, District Manager, Boise District, 3948 Development Avenue, Boise, ID 83705. Telephone: (208) 384-3300. Email: ledouglas@blm.gov. Persons who use a telecommunications device for the deaf (TDD) may contact Ms. Douglas by calling the Federal Relay Service (FRS) at (800) 877-8339. The FRS is available 24 hours a day, 7 days a week, to leave a message or question with Ms. Douglas. You will receive a reply during normal business hours.

SUPPLEMENTARY INFORMATION: The 15-member RAC advises the Secretary of the Interior, through the Bureau of Land Management, on a variety of planning and management issues associated with public land management in Idaho. The meeting agenda will include discussions of Four Rivers, Bruneau and Owyhee Field Office grazing, recreation, and fuels projects. The meeting will also include a discussion about forming a subcommittee dedicated to recreational shooting issues on public lands and a presentation by Idaho Department of Fish and Game on Sage-grouse population status in southwest Idaho. The final agenda will be posted to the Boise District RAC website one week prior to the meeting at https://www.blm.gov/get-involved/resource-advisory-council/near-you/Idaho/boise-district-RAC.

RAC meetings are open to the public. The public may present written comments to the Council. Each formal Council meeting will also have time allocated for hearing public comments. Depending on the number of persons wishing to comment and time available, the time for individual oral comments may be limited. Individuals who plan to attend and need special assistance, such as sign language interpretation or other reasonable accommodations, should contact the BLM as provided above.

Authority: 43 CFR 1784.4-1.

Lara Douglas,
BLM Boise District Manager.

[FR Doc. 2019-25509 Filed 11-22-19; 8:45 am]

BILLING CODE 4310-GG-P